DEPARTMENT OF ENERGY

Federal Energy Regulatory Commission

Sunshine Act Meeting Notice

October 14, 2010.

The following notice of meeting is published pursuant to section 3(a) of the government in the Sunshine Act (Pub. L. 94-409), 5 U.S.C. 552b:

Agency Holding Meeting: Federal Energy Regulatory Commission.

Date and Time: October 21, 2010, 10 a.m.

Place: Room 2C, 888 First Street, NE., Washington, DC 20426.

Status: Open.

Matters To Be Considered: Agenda

*Note—Items listed on the agenda may be deleted without further notice.

Contact Person for More Information: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

963RD—Meeting; Regular Meeting
[October 21, 2010, 10 a.m.]
Item No. | Docket No. | Company
Administrative
A-1 | AD02-1-000 | Agency Administrative Matters.
A-2 | AD02-7-000 | Customer Matters, Reliability, Security and Market Operations.
A-3 | AD06-3-000 | Energy Market Assessment—2010-2011 Winter/Summer Assessment.
A-4 | AD10-5-000 | RTO Performance Metrics.
Electric
E-1 | ER10-1562-000, ER10-2254-000 | Duke Energy Ohio, Inc. and Duke Energy Kentucky, Inc.
E-2 | EL10-64-001 | California Public Utilities Commission.
| EL10-66-001 | Southern California Edison Company, Pacific Gas and Electric Company and San Diego Gas & Electric Company.
E-3 | RM10-13-000 | Credit Reforms in Organized Wholesale Electric Markets.
E-4 | RR10-11-000 | North American Electric Reliability Corporation.
E-5 | RR10-13-000 | North American Electric Reliability Corporation.
E-6 | RM09-15-000 | Version One Regional Reliability Standard for Resource and Demand Balancing.
E-7 | OMITTED |
E-8 | RM10-10-000 | Planning Resource Adequacy Assessment Reliability Standard.
E-9 | RM09-19-000 | Western Electric Coordinating Council, Qualified Transfer Path Unscheduled Flow Relief Regional Reliability Standard.
E-10 | ER09-1048-000 | California Independent System Operator Corporation.
E-11 | ER09-1049-000 | Midwest Independent Transmission System Operator, Inc.
E-12 | ER09-1050-000 | Southwest Power Pool, Inc.
E-13 | ER09-1051-000 | ISO New England Inc. and New England Power Pool.
E-14 | ER09-1063-000, ER09-1063-001 | PJM Interconnection, L.L.C.
E-15 | ER09-1142-000, ER09-1142-001 | New York Independent System Operator, Inc.
E-16 | ER10-166-000 | Dynergy South Bay, LLC.
E-17 | OMITTED |
E-18 | ER10-192-000, ER10-192-001, ER10-192-002, ER10-192-003, ER10-192-004, ER10-192-005 | Public Service Company of Colorado.
Gas
G-1 | RM11-1-000 | Capacity Transfers on Intrastate Natural Gas Pipelines.
G-2 | PR10-45-001 | Arizona Public Service Company and Sequent Energy Management, L.P.
G-3 | RP10-758-000 | Portland Natural Gas Transmission System.
Hydro
H-1 | P-12107-005 | Granite County, Montana.
H-2 | P-2496-222 | Eugene Water and Electric Board.
H-3 | P-13794-001 | Thermalito Afterbay Hydro, LLC.
Certificates
C-1 | OMITTED |
C-2 | CP04-36-006 | Weaver's Cove Energy, LLC.
C-3 | CP10-490-000 | Texas Eastern Transmission, LP and Texas Gas Transmission, LLC.
C-4 | CP10-498-000 | Ryckman Creek Resources, LLC.
C-5 | CP10-23-000 | UGI Storage Company.
| CP10-24-000 | UGI Central Penn Gas, Inc.
C-6 | OMITTED |
C-7 | CP10-2-001 | Southern Star Central Gas Pipeline, Inc.

Kimberly D. Bose,
Secretary.

A free webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2010-26356 Filed 10-15-10; 11:15 am]

BILLING CODE 6717-01-P